DEPARTMENT OF DEFENSE

GENERAL SERVICES ADMINISTRATION

NATIONAL AERONAUTICS AND SPACE ADMINISTRATION

48 CFR Part 14

[FAC 2005-39; Item VII; Docket FAR 2010-0078; Sequence 1]

Federal Acquisition Regulation; Technical Amendment

AGENCIES: Department of Defense (DoD), General Services Administration (GSA), and National Aeronautics and Space Administration (NASA).

ACTION: Final rule.

SUMMARY: This document makes an amendment to the Federal Acquisition Regulation in order to make an editorial change.

DATES: Effective Date: March 19, 2010.

FOR FURTHER INFORMATION CONTACT: The Regulatory Secretariat, 1800 F Street, NW., Room 4041, Washington, DC, 20405, (202) 501-4755, for information pertaining to status or publication schedules. Please cite FAC 2005-39, Technical Amendment.

SUPPLEMENTARY INFORMATION: This document makes an amendment to the Federal Acquisition Regulation in order to make an editorial change.

List of Subjects in 48 CFR Part 14

Government procurement.

Dated: March 15, 2010.
Al Matera,
Director, Acquisition Policy Division.

Therefore, DoD, GSA, and NASA amend 48 CFR part 14 as set forth below:

PART 14—SEALED BIDDING

1. The authority citation for 48 CFR part 14 continues to read as follows:

Authority: 40 U.S.C. 121(c); 10 U.S.C. chapter 137; and 42 U.S.C. 2473(c).

14.202-4 [Amended]

2. Amend section 14.202-4 by removing from paragraph (a)(3) “subdivision (e)(1)(ii) below” and adding “paragraph (d)(1)(ii) of this section” in its place.

[FR Doc. 2010-5992 Filed 3-18-10; 8:45 am]

BILLING CODE 6820-EP-S